DEPARTMENT OF ENERGY

Federal Energy Regulatory Commission

[Docket No. CP10-118-000]

Cheniere Creole Trail Pipeline, L.P.; Notice of Request Under Blanket Authorization

April 7, 2010.

Take notice that on April 2, 2010, Cheniere Creole Trail Pipeline, L.P. (Creole Trail), 700 Milam, Suite 800, Houston, Texas 77002, filed in Docket No. CP10-118-000, a prior notice request pursuant to sections 157.205, 157.208, and 157.212 of the Commission's regulations under the Natural Gas Act (NGA). Creole Trail seeks authorization to construct and operate approximately 550 feet of 12-inch diameter pipe (no above ground facilities will be constructed) from an existing tap on Segment 1 of Creole Trail's system to an existing meter station at Cameron Meadows Processing Plant, owned by PSI Midstream Partners, L.P., all located in Johnson Bayou, Cameron Parish, Louisiana, to enable the delivery of up to 250 MMcf per day of re-gasified LNG to the plant for processing. The cost is estimated to be $450,000. Creole Trail proposes to perform these activities under its blanket certificate issued in Docket No. CP05-358-000 [115 FERC ¶ 61,331 (2006)], all as more fully set forth in the application which is on file with the Commission and open to public inspection.

The filing may be viewed on the Web at http://www.ferc.gov using the “eLibrary” link. Enter the docket number excluding the last three digits in the docket number field to access the document. For assistance, contact FERC at FERCOnlineSupport@ferc.gov or call toll-free, (886) 208-3676 or TYY, (202) 502-8659.

Any questions regarding this application may be directed to Karri Mahmoud, Manager, Regulatory and Compliance, Cheniere Energy, Inc., 700 Milam, Suite 800, Houston, Texas 77002, or phone at (713) 375-5000.

Any person or the Commission's Staff may, within 60 days after the issuance of the instant notice by the Commission, file pursuant to Rule 214 of the Commission's Procedural Rules (18 CFR 385.214) a motion to intervene or notice of intervention and, pursuant to section 157.205 of the Commission's Regulations under the NGA (18 CFR 157.205) a protest to the request. If no protest is filed within the time allowed, the proposed activity shall be deemed to be authorized effective the day after the time allowed for protest. If a protest is filed and not withdrawn within 30 days after the time allowed for filing a protest, the instant request shall be treated as an application for authorization pursuant to section 7 of the NGA.

The Commission strongly encourages electronic filings of comments, protests, and interventions via the Internet in lieu of paper. See 18 CFR 385.2001(a)(1)(iii) and the instructions on the Commission's Web site (http://www.ferc.gov) under the “e-Filing” link. Persons unable to file electronically should submit an original and 14 copies of the protest or intervention to the Federal Energy Regulatory Commission, 888 First Street, NE., Washington, DC 20426.

Kimberly D. Bose,
Secretary.

[FR Doc. 2010-8592 Filed 4-14-10; 8:45 am]

BILLING CODE 6717-01-P